DEPARTMENT OF ENERGY

Agency Information Collection Extension

AGENCY: Department of Energy.

ACTION: Submission for Office of Management and Budget Review; Comment request.

SUMMARY: The Department of Energy (DOE) has submitted an information collection package, OMB Control Number 1910-5103, Reporting and Record Keeping Requirements for Safety Management System for extension under the Paperwork Reduction Act of 1995 (Pub. L. 104-13, 44 U.S.C. chapter 35). This package contains an information collection that is used by Departmental Management to exercise management oversight and control over management and operating (M&O) contractors operating DOE's facilities. This contractor management oversight and control function concerns the ways in which DOE management contractors document their environment, safety and health systems to ensure contractor employees' safety and health.

DATES: Comments must be submitted on or before September 19, 2003. If you anticipate that you will be submitting comments, but find it difficult to do so within the period of time allowed by this notice, you should advise the OMB Desk Officer of your intention to do so as soon as possible. The Desk Officer may be telephoned at (202) 395-3087. (Also, please notify the DOE contact listed in this notice.)

ADDRESSES: Address comments to DOE Desk Officer, Office of Management and Budget. Office of Information and Regulatory Affairs (OIRA), Room 10102, New Executive Office Building, 725 17th Street, NW., Washington, DC 20503. (Comments should also be addressed to Sharon Evelin, Acting Director, Records Management Division, Office of Business and Information Management, Office of Chief Information Officer, IM-11, U.S. Department of Energy, 1000 Independence Avenue, SW., Washington, DC 20585-1290.

SUPPLEMENTARY INFORMATION: (1) Title: Environment, Safety and Health; (2) Current OMB Control Number: 1910-5103; (3) Summary: A three year extension is requested which includes mandatory obligations; (4) Purpose: This information is required by the Department to ensure that the Departmental environment, safety and health resources and requirements are managed efficiently and effectively and to exercise management oversight of DOE contractors; (5) Type of Respondents: DOE management and operating contractors; (6) Estimated number of responses: 7 per year; and (7) Estimated total burden hours: 2,450.

Statutory Authority: Department of Energy Organization Act, Public Law 92-01.

Issued in Washington, DC, on August 13, 2003.
Sharon Evelin,
Acting Director, Records Management Division, Office of Business and Information Management, Office of the Chief Information Officer.

[FR Doc. 03-21300 Filed 8-19-03; 8:45 am]

BILLING CODE 6450-01-P